DEPARTMENT OF VETERANS AFFAIRS

Special Medical Advisory Group, Notice of Meeting

The Department of Veterans Affairs (VA) gives notice under the Federal Advisory Committee Act, 5 U.S.C. ch. 10, that the Special Medical Advisory Group (the Committee) will meet on May 1-2, 2024, at the Board of Veterans Appeals, 425 I St. NW (Conference Room 4E.400) in Washington, DC 20001. The May meeting sessions will begin and end as follows:

Date | Time | Open session
May 1, 2024 | 9:00 a.m.-3:30 p.m. Eastern Time (ET) | Yes.
May 2, 2024 | 9:00 a.m.-11:30 a.m. ET | Yes.

Members of the Committee may join in person or virtually. The meeting is open to the public. The public is encouraged to attend virtually due to seating limitations in the physical meeting space.

The meeting can be joined by phone at 404-397-1596 (Access code: 28277800855) and via Webex at: https://veteransaffairs.webex.com/veteransaffairs/j.php?MTID=md00680588f9b805956725e72d2778ecb. Please contact the point of contact below for assistance connecting.

The purpose of the Committee is to advise the Secretary of Veterans Affairs and the Under Secretary for Health on the care and treatment of Veterans, and other matters pertinent to the Veterans Health Administration.

On May 1-2, 2024, the agenda for the meeting will include discussions on strategies for increasing access, budget execution, balance of care independent reporting, referral care coordination, maximizing tele-urgent care/emergent care and building off access sprints, artificial intelligence sprints and digital health tech sprints.

Members of the public may submit written statements in advance for review by the Committee to: Department of Veterans Affairs, Special Medical Advisory Group—Office of Under Secretary for Health (10), Veterans Health Administration, 810 Vermont Ave. NW, Washington, DC 20420 or by email at: VASMAGDFO@va.gov. Comments will be accepted until close of business on Wednesday, April 24, 2024. The meeting will also include time reserved for live public comment at the end of the meeting on May 2, 2024. The public comment period will be 30 minutes and each individual commenter will be afforded a maximum of five minutes to express their comments.

Any member of the public wishing to attend the meeting or seeking additional information should email VASMAGDFO@va.gov or call 202-461-7000.

Dated: April 11, 2024.
LaTonya L. Small,
Federal Advisory Committee Management Officer.

[FR Doc. 2024-08127 Filed 4-16-24; 8:45 am]

BILLING CODE P